ENVIRONMENTAL PROTECTION AGENCY

40 CFR Part 52

[EPA-R03-OAR-2013-0072; FRL-9913-62-OAR]

Approval and Promulgation of Air Quality Implementation Plans; Maryland; Section 110(a)(2) Infrastructure Requirements for the 2008 Lead National Ambient Air Quality Standards

Correction

In rule document 2014-16556 appearing on pages 41437 through 41438 in the issue of Wednesday, July 16, 2014 the subject line is corrected to appear as set forth above.

[FR Doc. C1-2014-16556 Filed 7-28-14; 8:45 am]

BILLING CODE 1505-01-D